TENNESSEE VALLEY AUTHORITY

Meeting of the Regional Resource Stewardship Council

AGENCY: Tennessee Valley Authority (TVA).

ACTION: Notice of meeting.

SUMMARY: The TVA Regional Resource Stewardship Council (RRSC) will hold a virtual meeting on Wednesday, September 22, 2021, to learn about proposed Biodiversity policy and hear updates on multiple subjects.

DATES: The meeting will be held on Wednesday, September 22, 2021 from 9:00 a.m. to 2:00 p.m. EDT.

ADDRESSES: The meeting is virtual and open to the public. Members of the public must preregister at the following link: https://bit.ly/RRSC-Sept by 5 p.m. September 20, 2021. Anyone needing special accommodations should let the contact below know at least a week in advance.

FOR FURTHER INFORMATION CONTACT: Cathy Coffey, ccoffey@tva.gov or 865-632-4494.

SUPPLEMENTARY INFORMATION: The RRSC was established to advise TVA on its natural resource and stewardship activities, and the priorities among competing objectives and values. Notice of this meeting is given under the Federal Advisory Committee Act (FACA), 5 U.S.C. App.2.

The meeting agenda includes the following:

1. Welcome and Introductions

2. Presentation Regarding TVA's Proposed Biodiversity Policy

3. Seek advice from RRSC on Biodiversity Policy

4. Update on Natural Resource projects

5. Public Comment period

A 30-minute public comment session will be held at 9:30 a.m. EDT. If you wish to speak, please send the email request to ccoffey@tva.gov by 5 p.m. on September 21. Written comments also are invited. Written comments must be emailed to ccoffey@tva.gov no later than 5 p.m. on September 20, 2021, so they may be shared with the RRSC prior to the meeting.

Dated: September 7, 2021.
The DFO of the Tennessee Valley Authority and Vice President of External Strategy & Regulatory Affairs, Melanie Farrell, having reviewed and approved this document, is delegating the authority to sign this document to Cathy Coffey, Senior Program Manager of Stakeholder Relations, for purposes of publication in the Federal Register.
Cathy Coffey,
Senior Program Manager, Stakeholder Relations, Tennessee Valley Authority.

[FR Doc. 2021-20259 Filed 9-17-21; 8:45 am]

BILLING CODE 8120-08-P